DEPARTMENT OF DEFENSE

Office of the Secretary

Renewal of the Defense Health Board

AGENCY: DoD.

ACTION: Renewal of Federal Advisory Committee.

SUMMARY: Under the provisions of the Federal Advisory Committee Act of 1972 (5 U.S.C. Appendix), the Government in the Sunshine Act of 1976 (5 U.S.C. 552b), and 41 CFR 102-3.50(d), the Department of Defense gives notice that it is renewing the charter for the Defense Health Board (hereinafter referred to as “the Board”). The Board has been determined to be in the public interest.

The Board is a discretionary federal advisory committee that shall provide the Secretary and Deputy Secretary of Defense, through the Under Secretary of Defense for Personnel and Readiness (hereafter referred to as “the Under Secretary of Defense”), and the Assistant Secretary of Defense for Health Affairs, independent advice and recommendations on matters pertaining to:

a. DoD healthcare policy and program management;

b. Health research programs;

c. Requirements for the treatment and prevention of disease and injury by DoD;

d. Promotion of health and the delivery of efficient, effective and high quality health care services to DoD beneficiaries; and

e. Other matters of special interest to DoD, as determined by the Secretary of Defense, the Deputy Secretary of Defense or the Under Secretary.

The Board is not established to provide advice on individual DoD procurements, but instead shall be concerned with the DoD healthcare issues facing the Department of Defense in the areas referenced above. No matter shall be assigned to the Board for its consideration that would require any Board member to participate personally and substantially in the conduct of any specific procurement or place him or her in the position of acting as a contracting or procurement official.

The Board shall be composed of not more than 19 members who are appointed by the Secretary of Defense. The members shall be eminent authorities in one or more of the following disciplines: clinical health care, disease and injury prevention, health care delivery and administration, or strategic decision-making in government, industry, or academia.

Board members shall be appointed by the Secretary of Defense and their appointments will be renewed on an annual basis according to DoD policy and procedures. Board members who are not full-time or permanent part-time Federal employees shall be appointed to serve as experts and consultants under the authority of 5 U.S.C. 3109 and serve as special government employees. Each Board member is appointed to provide advice on behalf of the government on the basis of his or her best judgment without representing any particular point of view and in a manner that is free from conflict of interest. With the exception of travel and per diem for official travel, Board members shall serve without compensation.

The Secretary of Defense may approve the appointment of Board members for one-to-four year terms of service, with annual renewals; however, no member, unless authorized by the Secretary of Defense, may serve more than two consecutive terms of service on the Board. This same term of service limitation also applies to any DoD authorized Subcommittee of the Board.

Appointments will normally be staggered among the Board membership to ensure an orderly turnover in the Board's overall composition on a periodic basis. Regular government officers or employees who participate in DoD's decision-making process for this Board are prohibited from serving on the Board or its subcommittees.

The Secretary of Defense, in consultation with the Under Secretary of Defense, shall appoint the Board's President. The Under Secretary of Defense shall appoint the Vice President. The Under Secretary of Defense, pursuant to DoD policies and procedures, may appoint, as deemed necessary, non-voting experts and consultants, with special expertise, to assist the Board on an ad hoc basis. These experts and consultants, if not full-time or part-time government employees, shall be appointed under the authority of 5 U.S.C. 3109, shall serve as special government employees, shall be appointed on an intermittent basis to work specific Board-related efforts, and shall have no voting rights. Non-voting experts and consultants appointed by the Under Secretary of Defense shall not count toward the Board's total membership, and shall not engage in Board deliberations.

The Department, when necessary, and consistent with the Board's mission and DoD policies/procedures, may establish subcommittees, task groups, and working groups to support the Board. Establishment of subcommittees will be based upon a written determination, to include terms of reference, by the Secretary of Defense, the Deputy Secretary of Defense, or the Board's sponsor.

Such Subcommittees shall not work independently of the chartered Board, and shall report all of their recommendations and advice solely to the Board for full deliberation and discussion. Subcommittees have no authority to make decisions and recommendations, verbally or in writing, on behalf of the chartered Board; nor can any Subcommittee or its members update or report directly to the DoD or any Federal officers or employees.

All Subcommittee members shall be appointed in the same manner as the Board members; that is, the Secretary of Defense shall appoint Subcommittee members even if the member in question is already a Board member. Subcommittee members, with the approval of the Secretary of Defense, may serve a term of service on the Subcommittee of one-to-four years; however, no member shall serve more than two consecutive terms of service on the subcommittee.

Subcommittee members, if not full-time or part-time government employees, shall be appointed to serve as experts and consultants under the authority of 5 U.S.C. 3109, and shall serve as special government employees, whose appointments must be renewed by the Secretary of Defense on an annual basis. With the exception of travel and per diem for official Board related travel, Subcommittee members shall serve without compensation.

Each Subcommittee member is appointed to provide advice on behalf of the government on the basis of his or her best judgment without representing any particular point of view and in a manner that is free from conflict of interest.

All Subcommittees operate under the provisions of FACA, the Sunshine Act, governing Federal statutes and regulations, and governing DoD policies/procedures.

Currently, DoD has approved the following permanent subcommittees to the Defense Health Board.

a. Public Health Subcommittee: This Subcommittee shall be composed of not more than 10 members who are eminent authorities in at least one of the following disciplines: Infectious Disease; Occupational Health/Medicine; Preventive Medicine; Public Health; and Toxicology.

The Subcommittee, when tasked according to DoD policy/procedures, provides advice on matters pertaining to improving the overall health of members of the Armed Forces and their families through the evaluation of DoD public health programs and initiatives including education, health promotion and prevention activities, as well as disease and injury prevention research.

b. Health Care Delivery Subcommittee: This Subcommittee shall be composed of not more than nine members who are eminent authorities in at least one of the following disciplines: Health Care Academia; Health Care Finance/Economics; Health Care Policy/Executive Leadership; and Patient Care.

The Subcommittee, when tasked according to DoD policy/procedures, provides advice on matters pertaining to health care delivery, to include DoD health care policy and program management, and research.

c. Neurological/Behavioral Health Subcommittee: This Subcommittee shall be composed of not more than 10 members who are eminent authorities in at least one of the following disciplines: Neurology; Post-Traumatic Stress Disorder; Psychiatry; Psychology; and Traumatic Brain Injury.

The Subcommittee, when tasked according to DoD policy/procedures, provides advice on matters pertaining to psychological/mental health issues and neurological symptoms or conditions among members of the Armed Forces and their families.

d. Medical Ethics Subcommittee: This Subcommittee shall be composed of not more than five members who are eminent authorities in at least one of the following disciplines: Clergy, DoD leadership, Human Research Protection, attorneys with expertise in medical ethics, and Military Health System beneficiaries. One member must have formal bioethics or medical ethics training or experience.

The Subcommittee, when tasked according to DoD policy/procedures, provides advice on matters pertaining to medical ethics.

e. Trauma and Injury Subcommittee: This Subcommittee shall be composed of not more than 10 members who are eminent authorities in at least one of the following disciplines: civilian or military trauma medicine systems.

The Subcommittee, when tasked according to DoD policy/procedures, provides advice on matters pertaining to trauma and injury, to include methods for prevention, recognition, clinical management, and treatment. It is the parent Subcommittee of the Committee on Tactical Combat Casualty Care.

f. Committee on Tactical Combat Casualty Care: The Committee on Tactical Combat Casualty Care is a permanent work group of the Trauma and Injury Subcommittee and shall be composed of not more than 31 members who are physicians, nurses, physician assistants, or combat medics with experience in at least one of the following: military trauma medicine or systems; or tactical combat casualty care.

The Subcommittee, when tasked according to DoD policy/procedures, provides advice on matters pertaining in-theater care in the tactical environment.

FOR FURTHER INFORMATION CONTACT: Jim Freeman, Advisory Committee Management Officer for the Department of Defense, 703-692-5952.

SUPPLEMENTARY INFORMATION: The Board's DFO, pursuant to DoD policy, shall be a full-time or permanent part-time DoD employee, and shall be appointed in accordance with established DoD policies and procedures.

In addition, the Board's DFO is required to be in attendance at all Board and Subcommittee meetings for the entire duration of each and every meeting. However, in the absence of the Board's DFO, a properly approved Alternate DFO, duly appointed to the Board according to DoD policies/procedures, shall attend the entire duration of the Board or Subcommittee meeting. The DFO, or the Alternate DFO, shall call all of the Board's and Subcommittee's meetings; prepare and approve all meeting agendas; adjourn any meeting, when the DFO, or the Alternate DFO, determines adjournment to be in the public interest or required by governing regulations or DoD policies/procedures; and chair meetings when directed to do so by the official to whom the Board reports.

Pursuant to 41 CFR 102-3.105(j) and 102-3.140, the public or interested organizations may submit written statements to the Defense Health Board's membership about the Board's mission and functions. Written statements may be submitted at any time or in response to the stated agenda of planned meeting of Defense Health Board.

All written statements shall be submitted to the Designated Federal Officer for the Defense Health Board, and this individual will ensure that the written statements are provided to the membership for their consideration. Contact information for the Defense Health Board's Designated Federal Officer can be obtained from the GSA's FACA Database— https://www.fido.gov/facadatabase/public.asp.

The Designated Federal Officer, pursuant to 41 CFR 102-3.150, will announce planned meetings of the Defense Health Board. The Designated Federal Officer, at that time, may provide additional guidance on the submission of written statements that are in response to the stated agenda for the planned meeting in question.

Dated: October 31, 2012.
Aaron Siegel,
Alternate OSD Federal Register Liaison Officer, Department of Defense.

[FR Doc. 2012-26911 Filed 11-2-12; 8:45 am]

BILLING CODE 5001-06-P